SMALL BUSINESS ADMINISTRATION

[Applicant ID No.: 99001222]

Everside SBIC I, L.P.; Notice Seeking Exemption Under the Small Business Investment Act, Conflicts of Interest

Notice is hereby given that Everside SBIC I, L.P., 1290 Avenue of the Americas, 34th Floor, New York, NY 10104, an applicant to become a Federal Licensee under the Small Business Investment Act of 1958, as amended (“Act”), in connection with the financing of a small concern, has sought an exemption under Section 312 of the Act and 13 CFR 107.730 of the Code of Federal Regulations, Financings which Constitute Conflict of Interest. Everside SBIC I, L.P. is proposing to provide financing to Athenix Holdings LLC (“Company”) to support its growth.

The proposed transaction is brought within the purview of 13 CFR 107.730 because Resolute Capital Partners Fund V-A, L.P., Resolute Capital Partners Fund V-B, L.P. and Resolute Capital Partners Fund IV, L.P (collectively, “Resolute”), Associates of Everside SBIC I, L.P., as defined in 13 CFR 107.50, hold a 10% or greater equity interest in the Company. By virtue of Resolute's equity ownership of the Company, the Company is also considered an Associate of the Licensee.

Therefore, the proposed transaction requires a regulatory exemption pursuant to 13 CFR 107.730. Notice is hereby given that any interested person may submit written comments on the transaction within fifteen days of the date of this publication to the Associate Administrator, Office of Investment and Innovation, U.S. Small Business Administration, 409 Third Street SW, Washington, DC 20416.

Bailey DeVries,
Associate Administrator, Office of Investment and Innovation, U.S. Small Business Administration.

[FR Doc. 2023-22432 Filed 10-6-23; 8:45 am]

BILLING CODE P